DEPARTMENT OF THE INTERIOR

Bureau of Land Management

[LLNVB00000.L51100000.GN0000.LVEMF1703550.211B.17XMO#4500108947]

Notice of Availability of the Final Environmental Impact Statement for the Gold Bar Mine Project, Eureka County, Nevada

AGENCY: Bureau of Land Management, Interior.

ACTION: Notice of availability.

SUMMARY: In compliance with the National Environmental Policy Act of 1969, as amended (NEPA), and the Federal Land Policy and Management Act of 1976, as amended, the Bureau of Land Management (BLM) Mount Lewis Field Office, Battle Mountain, Nevada, has prepared a Final Environmental Impact Statement (FEIS) for the Gold Bar Mine Project (Project) in Eureka County, Nevada, and by this Notice is announcing its availability.

DATES: The BLM will not issue a final decision on the proposal for a minimum of 30 days after the date that the Environmental Protection Agency publishes its Notice of Availability in the Federal Register.

ADDRESSES: Copies of the FEIS for the Project and other documents pertinent to this proposal may be reviewed at the Mount Lewis Field Office: 50 Bastian Road, Battle Mountain, Nevada 89820. The document is available for download at http://bit.ly/2gyfZms.

FOR FURTHER INFORMATION CONTACT: Christine Gabriel—Project Manager, telephone 775-635-4000; address 50 Bastian Road, Battle Mountain, Nevada 89820; email blm_nv_bmdo_mlfo_gold_bar_project_eis@blm.gov. Contact Christine Gabriel to have your name added to the project mailing list. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: McEwen Mining Inc. (MMI) proposes to develop a gold mine in the southwest portion of the Roberts Mountains approximately 30 miles northwest of Eureka, Nevada. The mine plan boundary encompasses 5,362 acres of public lands and 199 acres of private lands located in Eureka County, Nevada. The proposed Project would include four open pits; waste rock dump areas (WRDAs); crushing, screening, and agglomeration facilities; heap leach pads (HLP), an associated process solution pond, and an event pond; an adsorption, desorption, and recovery (ADR) plant including barren and pregnant solution tanks; ancillary and other facilities including an explosive storage area, ammonium nitrate prill silos, liquid natural gas (LNG) Cryostorage or compressed natural gas (CNG) generators with a switch station, a truck shop and wash bay, a ready line, landfill, laydown areas, water and power infrastructure, buildings, yards, parking, storage, growth media stockpiles, production water wells (GBPW-210 and GBPW-211) and an associated water supply pipeline, groundwater monitoring wells (GBMW-01, GBMW-03, and GBMW-04), communication facilities, potable water and fire water facilities, septic systems, and fencing; and mine access roads (Three Bars Road, Atlas Haul Road, North Roberts Creek Road, Bypass Road [NVN-91566], and Roberts Creek Road). The Project would disturb 1,154 acres, including re-disturbing 420 acres of existing, non-reclaimed disturbance from a previous abandoned mining operation; 718 acres of new disturbance; and 16 acres of new disturbance as a result of exploration. Of the 1,154 acres, 185 acres would be on private land, and 969 acres would be on public land.

The proposed pit depths would not intercept groundwater. No pit dewatering would be necessary and no pit lakes are anticipated to form after mining operations end. The Final EIS, through scoping and a 45-day public comment period, has identified and analyzed impacts to the following resources areas: Water resources, air quality, vegetation resources, wildlife, grazing management, land use and access, aesthetics (noise and visual), cultural resources, paleontological resources, geological resources (including minerals and soils), recreation, social and economic values, hazardous materials, Native American cultural concerns, and wild horses. The proposed project area does not have any lands with wilderness characteristics (LWCs). The Pony Express National Historic Trail crosses existing Three Bars and North Roberts Creek Roads; however, public and recreational access to the National Historic Trail would not be affected by mining activities.

The FEIS describes and analyzes the proposed Project's direct, indirect, and cumulative impacts on all affected resources. In addition to the proposed Project, four alternatives were analyzed including the 25kV Overhead Distribution Line Alternative, the Three Bars Road/Atlas Haul Road as Only Access Alternative, the Mount Hope and North Roberts Creek Road for Light Vehicle Traffic Alternative, and the No Action Alternative. The Draft EIS was released for a 45-day public comment period, which ended April 17, 2017. A public meeting was held in Eureka, Nevada on March 22, 2017. A total of 2,178 comment letters were received from the general public, agencies, special interest groups, businesses and organizations. The FEIS responds to all comments received. These public comments resulted in the addition of clarifying text, but did not significantly change the analysis. Based on the analysis in the FEIS, the BLM has determined that the preferred alternative is the approval of the Project, with accompanying mitigation measures and voluntary applicant-committed environmental protection measures. The BLM has used and coordinated the NEPA scoping and comment process to help fulfill the public involvement process under the National Historic Preservation Act (NHPA) (54 U.S.C. 306108) as provided in 36 CFR 800.2(d)(3)—and continues to do so. The information about historic and cultural resources within the area potentially affected by the proposed Project has assisted the BLM in identifying and evaluating impacts to such resources in the context of both NEPA and Title 54 of the NHPA.

The BLM has consulted and continues to consult with Indian tribes on a government-to-government basis in accordance with Executive Order 13175 and other policies. Tribal concerns, including potential impacts to areas of critical cultural and spiritual significance and potential impacts to cultural resources have been analyzed in the Final EIS.

Following a 30-day Final EIS availability and review period, a Record of Decision (ROD) will be issued. The decision reached in the ROD is subject to appeal to the Interior Board of Land Appeals. The 30-day appeal period begins with the issuance of the ROD.

Authority: 40 CFR 1501.7.

Joseph S. Moskiewicz,
Acting Field Manager, Mount Lewis Field Office.

[FR Doc. 2017-21599 Filed 10-5-17; 8:45 am]

BILLING CODE 4310-HC-P